DEPARTMENT OF ENERGY

Federal Energy Regulatory Commission

[Docket No. CP11-476-000 ]

Transwestern Pipeline Company, LLC; Notice of Request Under Blanket Authorization

Take notice that on May 9, 2011, Transwestern Pipeline Company, LLC (Transwestern), 711 Louisiana Street, Suite 900, Houston, TX 77002-2716, filed in Docket No. CP11-476-000, an application pursuant to sections 157.203, 157.205 and 157.216 of the Commission's Regulations under the Natural Gas Act (NGA) as amended, to abandon the 20-inch Gomez Lateral, and associated ancillary facilities located in Pecos, Reeves, and Ward Counties, Texas, under Transwestern's blanket certificate issued in Docket No. CP67-220-000, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Kelly Allen, Manager Certificates and Reporting, Transwestern Pipeline Company, LLC, 711 Louisiana Street, Suite 900, Houston, TX 77002-2716, via telephone at (281) 714-2056, fax (281) 714-2181 or e-mail: Kelly.Allen@energytransfer.com or Shemeika Landry, Senior Counsel, Transwestern Pipeline Company, LLC, 711 Louisiana Street, Suite 900, Houston, TX 77002-2716, via telephone at (281) 714-2051, fax (281) 714-2181 or email: Shemeika.Landry@energytransfer.com.

Specifically, Transwestern proposes to abandon in place or offer by sale, approximately 33.4 miles of 20-inch diameter pipeline which begins at the discharge of the Gomez Processing Plant near the city of Ft. Stockton in Pecos County, Texas and traverses in a northeasterly direction to an interconnect with Transwestern's 24-inch West Texas Lateral near the town of Peyote in Ward County, Texas. As a result of the sale of the previously attached Gomez Gathering System, Transwestern asserts that the Gomez Lateral has been rendered underutilized and an unnecessary part of its pipeline system.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street, NE., Washington, DC 20426.

Dated: May 20, 2011.
Kimberly D. Bose,
Secretary.

[FR Doc. 2011-13151 Filed 5-26-11; 8:45 am]

BILLING CODE 6717-01-P